DEPARTMENT OF COMMERCE

Foreign-Trade Zones Board

[B-56-2020]

Foreign-Trade Zone (FTZ) 90—Syracuse, New York; Authorization of Production Activity; Xylem Water Systems USA LLC (Centrifugal and Submersible Pumps), Auburn, New York

On August 11, 2020, Xylem Water Systems USA LLC submitted a notification of proposed production activity to the FTZ Board for its facilities within Subzone 90D, in Auburn, New York.

The notification was processed in accordance with the regulations of the FTZ Board (15 CFR part 400), including notice in the Federal Register inviting public comment (85 FR 55636, September 9, 2020). On December 9, 2020, the applicant was notified of the FTZ Board's decision that no further review of the activity is warranted at this time. The production activity described in the notification was authorized, subject to the FTZ Act and the FTZ Board's regulations, including Section 400.14.

Dated: December 9, 2020.
Andrew McGilvray,
Executive Secretary.

[FR Doc. 2020-27425 Filed 12-11-20; 8:45 am]

BILLING CODE 3510-DS-P